DEPARTMENT OF THE INTERIOR

National Park Service

Announcement of OMB Approval and Notice of Proposed Information Collection

AGENCY: National Park Service, Interior.

ACTION: Announcement of OMB approval and request for comments on proposed information collection.

SUMMARY: The National Park Service is announcing that a collection of information has been approved by the Office of Management and Budget (OMB) under the Paperwork Reduction Act of 1995 for the Final Rule on Concession Contracts.

Additionally, in compliance with the Paperwork Reduction Act of 1995, the National Park Service (NPS) is announcing its intention to request approval for the collection of information for 36 CFR part 51, section 51.47 regarding the appeal of a preferred offeror determination, sections 51.54 and 51.55 regarding NPS approval of the construction of capital improvements by concessioners, and Section 51.98 concerning recordkeeping requirements with which concessioners must comply.

DATES: Comments on the proposed information collection must be received by September 11, 2000.

ADDRESSES: Comments may be mailed to Wendelin M. Mann, Concession Program, National Park Service, 1849 C Street, NW., Washington, DC 20240. Comments may also be submitted electronically to wendy_mann@nps.gov.

FOR FURTHER INFORMATION CONTACT: To request a copy of the information collection request, and explanatory information, contact Wendelin M. Mann at (202) 565-1219.

SUPPLEMENTARY INFORMATION: The Office of Management and Budget (OMB) regulations as 5 CFR 1320, which implement provisions of the Paperwork Reduction Act of 1995 (Pub. L. 104-13), require that interested members of the public and affected agencies have an opportunity to comment on information collection and recordkeeping activities (see 5 CFR 1320.8(d)). This notice identifies information collection activities that NPS will submit to OMB for approval. NPS has requested, and OMB has granted emergency approval for these information collection activities through October 31, 2000, under Control Number 1024-0231.

NPS has identified burden estimates based on its experience with concession contracts and on information previously supplied by concessioners or offerors in response to concession prospectuses. NPS will request a 3-year term of approval for this information collection activity.

Comments are invited on: (1) The need for the collection of information for the performance of the functions of the agency; (2) the accuracy of the agency's burden estimates; (3) ways to enhance the quality and clarity of the information collection; and (4) ways to minimize the information collection burden on respondents, such as use of automated means of collection of the information. A summary of the public comments will accompany NPS's submission of the information collection request to OMB.

This notice provides the public with 60 days in which to comment on the following information collection activities:

Title: Concession Contract-36 CFR 51.

OMB Control Number: 1024-0231.

Summary: The information is being collected to meet the requirements of sections 403(7) and (8) of the National Park Service Concessions Management Improvement Act of 1998 (the Act), concerning the granting of a preferential right to renew a concession contract, section 405 of the Act regarding the construction of capital improvements by concessioners, and section 414 of the Act regarding recordkeeping requirements of concessioners. The information will be used by the agency in considering appeals concerning preferred offeror determinations, agency review and approval of construction projects and determinations with regard to the leasehold surrender interest value of such projects, and when necessary, agency review of a concessioner's books and records related to its activities under a concession contract.

Bureau Form Number: None.

Frequency of Collection: Once.

Description of Respondents: NPS concessioners, and, in the case of appeals of preferred offeror determinations, offerors in response to concession prospectuses.

Total Annual Responses: 758.

Total Annual Burden Hours: 3,276.

Dated: June 29, 2000.
Richard G. Cripe,
Manager, Washington Administrative Program Center.

[FR Doc. 00-17523 Filed 7-11-00; 8:45 am]

BILLING CODE 4310-70-M